DEPARTMENT OF TRANSPORTATION

Federal Aviation Administration

14 CFR Parts 60 and 121

[Docket No. FAA-2002-12461; Notice No. 02-11]

RIN 2120-AH07

Flight Simulation Device Initial and Continuing Qualification and Use

AGENCY: Federal Aviation Administration (FAA), DOT.

ACTION: Proposed rule; reopening of comment period.

SUMMARY: On September 25, 2002, the FAA published a Notice of Proposed Rulemaking (NPRM) to establish a new part regarding flight simulation device qualification requirements. The comment period closed on February 24, 2003; however, the FAA is reopening the comment period for an additional 30 days in order to give the public an opportunity to comment on recommendations received from an Aviation Rulemaking Committee established by the Administrator on July 2, 2003.

DATES: Comments must be received on or before March 11, 2004.

ADDRESSES: You may send comments [identified by Docket Number FAA-2002-12461] using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Edward Cook, National Simulator Program Staff (AFS-205), Flight Standards Service, Federal Aviation Administration, 100 Hartsfield Centre Parkway, Suite 400, Atlanta, GA 30354; telephone: (404) 832-4700

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Availability of NPRMs

An electronic copy of this document may be downloaded using a modem and suitable communications software from the FAA regulations section of the FedWorld electronic bulletin board service (telephone: (703) 321-3339) or the Government Printing Office (GPO)'s electronic bulletin board service (telephone: (202) 512-1661).

Internet users may reach the FAA's Web page at http://www.faa.gov/avr/arm/nprm/nprm.htm or the GPO's Web page at http://www.access.gpo.gov/nara to access recently published rulemaking documents.

Any person may obtain a copy of this document by submitting a request to the Federal Aviation Administration, Office of Rulemaking, ARM-1, 800 Independence Avenue SW., Washington, DC 20591, or by calling (202) 267-9680. Communications must identify the notice number or docket number of this NPRM.

Persons interested in being placed on the mailing list for future rulemaking documents should request from the above office a copy of Advisory Circular No. 11-2A, Notice of Proposed Rulemaking Distribution System, which describes the application procedure.

Background

On September 25, 2002, the FAA published in the Federal Register Notice 02-11, entitled “Flight Simulation Device Initial and Continuing Qualification and Use” (67 FR 60284). The comment period closed on February 24, 2003. In order to resolve comments and provide a forum for the FAA and the aviation community to discuss and resolve issues regarding FSDs, the FAA established the Flight Simulation Device Aviation Rulemaking Committee (ARC) on July 2, 2003. The general goal of the ARC is to provide advice, guidance, and recommendations on FSD issues including but not limited to safety of flight issues; the suitability and/or the application of the simulation to flight crewmember training, testing, or checking activities; and implementation of technical changes or scientific advancements in simulation. This ARC provided a forum for the FAA and affected members of the aviation community to discuss issues. The ARC also allowed members of the aviation community to reach consensus on certain recommendations that would be submitted to the FAA, to develop resolutions to facilitate the evolution of FSDs. The ARC's initial task was to review the FAA's proposed new rules in Notice 02-11 (Docket No. FAA-2002-12461), published on September 25, 2002. On November 24, 2003, the ARC submitted to the FAA its recommendations on how the proposed rule language should be clarified and reorganized. The ARC believes its recommendations are within the scope of the original NPRM.

In order to give the public an opportunity to comment on the recommendations received from the ARC, the FAA is reopening the comment period for an additional 30 days. The FAA finds that it is in the public interest to reopen the comment period for 30 days.

Issued in Washington, DC, on February 2, 2004.
John M. Allen,
Acting Director, Flight Standards Service.

[FR Doc. 04-2872 Filed 2-9-04; 8:45 am]

BILLING CODE 4910-13-P